DEPARTMENT OF THE INTERIOR

National Park Service

[NPS-WASO-NAGPRA-NPS0038357; PPWOCRADN0-PCU00RP14.R50000]

Notice of Inventory Completion: McClure Archives and University Museum, University of Central Missouri, Warrensburg, MO

AGENCY: National Park Service, Interior.

ACTION: Notice.

SUMMARY: In accordance with the Native American Graves Protection and Repatriation Act (NAGPRA), the McClure Archives and University Museum, University of Central Missouri has completed an inventory of human remains and associated funerary objects and has determined that there is a cultural affiliation between the human remains and associated funerary objects and Indian Tribes or Native Hawaiian organizations in this notice.

DATES: Repatriation of the human remains and associated funerary objects in this notice may occur on or after August 29, 2024.

ADDRESSES: Amber R. Clifford, McClure Archives and University Museum, Kirkpatrick Library 1470, University of Central Missouri, Warrensburg, MO 64093, telephone (660) 543-4649, email clifford@ucmo.edu.

SUPPLEMENTARY INFORMATION: This notice is published as part of the National Park Service's administrative responsibilities under NAGPRA. The determinations in this notice are the sole responsibility of the McClure Archives and University Museum, and additional information on the determinations in this notice, including the results of consultation, can be found in its inventory or related records. The National Park Service is not responsible for the determinations in this notice.

Abstract of Information Available

Site No 23JO14, Missouri

Human remains representing, at least, six individuals. Incomplete skeletal human remains of six individuals; four adults, one juvenile approximately five years old, and one infant approximately one year old, and 91 isolated human teeth. Accession #: N/A, the items were never given accession numbers originally. Catalogue #: Human Remains—121-302.4, Misc. 1-5, Uncatalogued 1-2, Uncategorized 1-6 Isolated Human Teeth—T4-263. The 960 associated funerary objects are: one piece of hematite, 79 stone bifaces, 314 sherds, 244 animals bones, animal teeth, and turtle shell pieces, 127 stone flakes, two pieces of iron, 13 pieces of sandstone, 23 pieces of limestone, five pieces of copper, 22 pieces of charcoal, two animal fossils, 10 antler pieces, 22 pieces of wood, three pieces of brick or baked earth, 33 mollusk shells, three pieces of siltstone, seven shell fragments, one piece of ochre, 13 unifaces, seven pieces of chert, two clumps of soil, one piece of daub, one piece of quartzite, one snail shell, 20 pieces of shale, and four core fragments. Accession #: N/A, the items were never given accession numbers originally. Catalogue #:102-302, many AFOs were catalogued as groups of items rather than individual items.

Cultural Affiliation

Based on the information available and the results of consultation, cultural affiliation is reasonably identified by the geographical location or acquisition history of the human remains and associated funerary objects described in this notice.

Determinations

The McClure Archives and University Museum has determined that:

• The human remains described in this notice represent the physical remains of six individuals of Native American ancestry.

• The 960 objects described in this notice are reasonably believed to have been placed intentionally with or near individual human remains at the time of death or later as part of the death rite or ceremony.

• There is a connection between the human remains and associated funerary objects described in this notice and Geographical affiliation is consistent with the traditional territory of The Osage Nation and Otoe-Missouria Tribe of Indians, Oklahoma with overlap from the Kickapoo Traditional Tribe of Texas; Kickapoo Tribe of Indians of the Kickapoo Reservation in Kansas; and the Kickapoo Tribe of Oklahoma. Archaeological evidence shows cultural descent from the Woodland culture to The Osage Nation; Otoe-Missouria Tribe of Indians, Oklahoma; Kickapoo Traditional Tribe of Texas; Kickapoo Tribe of Indians of the Kickapoo Reservation in Kansas; and the Kickapoo Tribe of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 29, 2024. If competing requests for repatriation are received, the McClure Archives and University Museum must determine the most appropriate requestor prior to repatriation. Requests for joint repatriation of the human remains and associated funerary objects are considered a single request and not competing requests. The McClure Archives and University Museum is responsible for sending a copy of this notice to the Indian Tribes and Native Hawaiian organizations identified in this notice.

Authority: Native American Graves Protection and Repatriation Act, 25 U.S.C. 3003, and the implementing regulations, 43 CFR 10.10.

Dated: July 17, 2024.
Melanie O'Brien,
Manager, National NAGPRA Program.

[FR Doc. 2024-16712 Filed 7-29-24; 8:45 am]

BILLING CODE 4312-52-P